DEPARTMENT OF HEALTH & HUMAN SERVICES

Administration for Children and Families

Office of Child Support Enforcement; Special Improvement Project (SIP) Grants

Announcement Type: Initial—Grant.

Funding Opportunity Number: HHS-2005-ACF-OCSE-FI-0005.

CFDA Number: 93.601.

Due Date for Applications: Application is due May 3, 2005.

Executive Summary: The Administration for Children and Families (ACF), Office of Child Support Enforcement (OCSE) invites eligible applicants to submit competitive grant applications for special improvement projects, which further the national child support mission, vision, and goals. For FY 2005, OCSE is looking for projects that reflect the goals of the new FY 2005-2009 strategic plan including the goals that all children have parentage established; and all children in IV-D (child support) cases have support orders established, have medical coverage and receive financial support from parents as ordered. The last goal of the strategic plan is that the IV-D program will be efficient and responsive in its operations. Applications will be screened and evaluated as indicated in this program announcement. Awards will be contingent upon the outcome of the competition and the availability of funds. For FY 2005, approximately $1.8 million is available for all priority areas. A non-Federal match is not required. The anticipated start date for the new awards is August 1, 2005; projects under Priority 1 may run through December 31, 2006, for a period of up to 17 months; projects under Priorities 2, 4 and 5 may run through July 31, 2007, for a period of up to 24 months and projects under Priority 3 may run through July 31, 2008, for a period of up to 36 months.

Legislative Authority: Section 452(j) of the Social Security Act, 42 U.S.C. 652(j), provides Federal funds for information dissemination and technical assistance to States, training of Federal and State staff to improve child support programs, and research, demonstration, and special projects of regional or national significance relating to the operation of State child support enforcement programs.

I. Funding Opportunity Description

Program Purpose and Objectives. To fund a number of special improvement projects, which further the national child support mission to ensure that all children receive financial and medical support from their parents and which strengthen the ability of the nation's child support programs to collect support on behalf of children and families. For FY 2005, OCSE is looking for projects that reflect the goals of the new FY 2005-2009 strategic plan including the goals that all children have parentage established; and all children in IV-D (child support) cases have support orders established, have medical coverage, and receive financial support from parents as ordered. The last goal of the strategic plan is that the IV-D program will be efficient and responsive in its operations. The national strategic plan reflects more than 10 years of child support professionals' brainstorming and consensus building among various branches and levels of government. OCSE is looking for innovative projects which promote some of the basic themes of the national strategic plan in that child support should be a reliable source of income for families; that the child support system should help secure children's health care coverage; and that child support agencies should use early prevention strategies to help build a culture of compliance in which parents will support their children voluntarily and reliably. We invite applications for partnerships with entities such as courts and/or tribunals and community- and faith-based organizations, which have the ability to address the needs of harder-to-serve populations, such as low-income non-custodial parents and culturally diverse populations. Applicants should understand that OCSE will not award grants for special improvement projects which (a) duplicate automated data processing and information retrieval system requirements or enhancements and associated tasks which are specified in the Social Security Act; or (b) which cover costs for routine activities that would normally be reimbursed under the Child Support Program (e.g., adding staff positions to perform routine CSE tasks), or by other Federal funding sources. Proposals and their accompanying budgets will be reviewed from this perspective.

Over the past five years, OCSE has awarded an average of 11 grants per year, totaling approximately $1.3 million per year. All grant awards are subject to the availability of appropriated funds. A non-Federal match is not required. The anticipated start date for the new awards is August 1, 2005; projects under Priority 1 may run through December 31, 2006, for a period of up to 17 months; projects under Priorities 2, 4 and 5 may run through July 31, 2007, for a period of up to 24 months; and projects under Priority 3 may run through July 31, 2008, for a period of up to 36 months.

The Federal OCSE will provide the State CSE agency the opportunity to comment on the merits of local CSE agency applications before final award. Given that the purpose of these projects is to improve child support enforcement programs, it is critical that applicants have the cooperation of IV-D agencies to operate these projects. Preference will be given to applicants representing CSE agencies and applicant organizations which have letters of commitment or cooperative agreements with CSE agencies. All applications developed jointly by more than one agency/organization must identify a single lead organization as the official applicant. The lead organization will be the recipient of the grant award. Participating agencies and organizations can be included as co-participants, subgrantees, or subcontractors with their written authorization.

On October 21, 2004, OCSE conducted an audio conference call on “Writing a Grant Application Made Easy.” The material presented covered major differences between Section 1115 and Special Improvement Project (SIP) grant programs, key elements of the evaluation criteria, and advice on what to include and common mistakes to avoid. It did not cover the details of the published announcement or discuss the specific priority areas. The recorded tape of this call is available through March 31, 2005, toll free at 1-866-442-8065.

Priority Area 1

Customizing Approaches for Improved Customer Service

1. Description: Under this solicitation, projects would design and implement customized child support enforcement strategies to improve services in specific sites such as, urban areas or multi-state metro areas, or for specific populations (e.g., incarcerated or formerly incarcerated parents or TANF recipients). Strategies may include, but are not limited to, two or more of the following customized service approaches: distinguishing between those who refuse to pay (e.g., denial/revocation of licenses and other remedies) and those who cannot pay (e.g., referral to workforce investment agency activities); working with TANF recipients nearing end of receipt of public assistance to help them get child support more regularly; using software to collect and target data for improved case management (however, SIP grant funds may not be used for substantial systems development or design); preventing the build-up of arrears through proactive early intervention; or co-location of staff to enhance inter-jurisdictional case processing.

II. Award Information

Funding Instrument Type: Grant.

Anticipated Total Priority Area Funding: $600,000 per project period.

Anticipated Number of Awards: 3.

Ceiling of Individual Awards: $200,000 per project period.

Floor on Amount of Individual Awards: None.

An application that exceeds the upper value of the dollar range specified will be considered non-responsive.

Average Projected Award Amount: $200,000 per project period.

Length of Project Periods: 17 months.

Priority Area 2

Improving Judicial/Administrative Child Support Enforcement Processes

1. Description: Under this solicitation, OCSE is looking for projects that design and implement approaches, which lead to the establishment of child support orders that more appropriately address circumstances of both parents. Such approaches could include better service of process, use of stipulated (voluntary) agreements between both parents on child support and related matters, improved court processes, along with using more culturally sensitive materials for diverse populations (such as tribal, ethnic groups, those with low literacy, etc.), as appropriate. Approaches should also address perceived obstacles to payment, including affordability of orders, matters of procedural justice and/or access to children.

II. Award Information

Funding Instrument Type: Grant.

Anticipated Total Priority Area Funding: $375,000 per project period.

Anticipated Number of Awards: 2.

Ceiling of Individual Awards: $187,500 per project period.

Floor on Amount of Individual Awards: None.

An application that exceeds the upper value of the dollar range specified will be considered non-responsive.

Average Projected Award Amount: $187,500 per project period.

Length of Project Periods: 24 months with two 12-month budget periods.

OCSE is providing $150,000 for the first 12-month budget period and $37,500 for the second 12-month budget period to provide sufficient time for these projects to finalize activities and evaluation reports.

Priority Area 3

Improving Child Support and Marriage Education Services for Ethnic and Culturally Diverse Populations

1. Description: Under this solicitation, projects would target underserved ethnic and culturally diverse populations, including, but not limited to, the Hispanic/Latino community, the Asian-American and Pacific Islander community, the African-American community, and Native Americans, American Indians, and Alaskan Natives so that they will receive more effective child support enforcement services and appropriate healthy marriage education. In addition, projects would identify and eliminate barriers that make it harder for ethnic and culturally diverse populations to establish paternity, seek child support assistance and to form and sustain healthy marriages. OCSE is looking for projects which implement strategies to improve and strengthen family stability by providing a combination of child support and marriage education services to ethnic and culturally diverse non-married, custodial, and non-custodial parents. We are interested in collaborative approaches between State/local/tribal governments and/or courts/tribunals with community-based, faith-based organizations, or education institutions and universities (including Historically Black Colleges and Universities) to offer model service approaches (not outreach campaigns) which reduce identified barriers and implement new service delivery strategies within the community. These service approaches should demonstrate the impact on child support outcomes such as paternity establishment, orders established, collections, and healthy marriage formation. This solicitation is not designed to provide funding for the development and implementation of Tribal child support enforcement programs since these provisions are being addressed through Federal regulation. As noted under “III. Eligibility Information” below, Tribes and Tribal Organizations are eligible to apply for any of the SIP priority areas described in this announcement.

II. Award Information

Funding Instrument Type: Grant.

Anticipated Total Priority Area Funding: $1,500,000 per project period.

Anticipated Number of Awards: 5.

Ceiling of Individual Awards: $300,000 per project period.

Floor on Amount of Individual Awards: None.

An application that exceeds the upper value of the dollar range specified will be considered non-responsive.

Average Projected Award Amount: $300,000 per project period.

Length of Project Periods: 36 months with three 12-month budget periods.

Priority Area 4

Improving Health Care Coverage for Children in Child Support Cases

1. Description: Under this solicitation, OCSE is looking for projects that develop and test creative strategies to improve medical support coverage for children in child support cases. Sufficient health care coverage for children is a primary consideration for the child support enforcement program. Strategies may include, but are not limited to, approaches which would improve employer and health insurance plan administrator compliance with the National Medical Support Notice (NMSN); encourage employers to provide information to CSE agencies about their health insurance providers so CSE agencies could better track and monitor medical support coverage; develop information that could be replicated in other communities for custodial and non-custodial parents about low-cost health insurance available at the local level; or improve data interfaces and other information exchanges between State/local CSE agencies and agencies administering Medicaid and SCHIP programs.

II. Award Information

Funding Instrument Type: Grant.

Anticipated Total Priority Area Funding: $250,000 per project period.

Anticipated Number of Awards: 2.

Ceiling of Individual Awards: $125,000 per project period.

Floor on Amount of Individual Awards: None.

An application that exceeds the upper value of the dollar range specified will be considered non-responsive.

Average Projected Award Amount: $125,000 per project period.

Length of Project Periods: 24 months with two 12-month budget periods.

OCSE is providing $100,000 for the first 12-month budget period and $25,000 for the second 12-month budget period to provide sufficient time for these projects to finalize activities and evaluation reports.

Priority Area 5

Improving Local Collaboration Strategies Between Child Support Enforcement and Community Agencies

1. Description: Under this solicitation, OCSE is interested in collaboration strategies between local CSE agencies and community- and faith-based organizations, health clinics, birthing centers, educational institutions and universities (including Historically Black Colleges and Universities) or public agencies such as Head Start, Medicaid, and TANF, that serve child support clients. Projects would demonstrate innovative strategies to educate parents, especially low-income, unwed parents, about child support enforcement policies in order to expedite the establishment of parentage, and encourage parents to meet their child support and parental responsibilities. OCSE has funded a number of projects designed to provide mentoring and employment services to non-custodial parents to increase child support outcomes. Although these types of projects provided valuable services to non-custodial parents, they generally did not produce significant child support outcomes. Thus, under this solicitation OCSE is looking for innovative collaboration strategies that are primarily intended to improve child support performance in paternity establishment, support order establishment, payment of current or overdue support and additionally, help increase healthy marriage formation.

II. Award Information

Funding Instrument Type: Grant.

Anticipated Total Priority Area Funding: $250,000 per project period.

Anticipated Number of Awards: 2.

Ceiling of Individual Awards: $125,000 per project period.

Floor on Amount of Individual Awards: None.

An application that exceeds the upper value of the dollar range specified will be considered non-responsive.

Average Projected Award Amount: $125,000 per project period.

Length of Project Periods: 24 months with two 12-month budget periods.

OCSE is providing $100,000 for the first 12-month budget period and $25,000 for a second 12-month budget period to provide sufficient time for these projects to finalize activities and evaluation reports.

III. Eligibility Information

1. Eligible Applicants

Eligible applicants for these special improvement project grants are State (including District of Columbia, Guam, Puerto Rico, and the Virgin Islands) Human Services Umbrella agencies, other State agencies (including State IV-D agencies), Tribes and Tribal Organizations, local public agencies (including IV-D agencies), non-profit organizations (including faith-based and community-based organizations and universities such as Historically Black Colleges and Universities) and consortia of State and/or local public agencies.

Non-profit organizations applying for funding are required to submit proof of their non-profit status. Documentation of non-profit status must be submitted by time of award. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earnings accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms” titled “Survey for Private, Non-Profit Grant Applicants” at http://www.acf.hhs.gov/programs/ofs/forms.htm.

Additional Information on Eligibility

The applicant should clearly indicate in its application(s) for which specific priority area it is applying. Applicants may submit different applications covering different priority areas or they may submit different applications for different projects under one priority area; however, they may not submit one application for the same project covering multiple priority areas.

2. Cost Sharing/Matching

No.

3. Other Eligibility Information

No grant award will be made under this announcement on the basis of an incomplete application.

All applicants must have a Dun & Bradstreet Universal Numbering System (DUNS) number. On June 27, 2003, the Office of Management and Budget published in the Federal Register a new Federal policy applicable to all Federal grant applicants. The policy requires all Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement, and block grant programs, submitted on or after October 1, 2003.

Please ensure that your organization has a DUNS number. You may acquire a DUNS number at no cost by calling the dedicated toll-free DUNS number request line on 1-866-705-5711 or you may request a number on-line at http://www.dnb.com.

Disqualification Factors: An application that exceeds the upper value of the dollar range specified will be considered non-responsive.

Late applications will be rejected and will not receive further consideration.

IV. Application and Submission Information

1. Address To Request Application Package

ATTN: Jean Robinson, Program Analyst, Administration for Children and Families, Office of Child Support Enforcement (OCSE), Division of State, Tribal and Local Assistance, 370 L'Enfant Promenade, SW., 4th Floor, East Wing, Washington, DC 20447. Phone: 202-401-5330. E-mail: jrobinson@acf.hhs.gov.

2. Content and Form of Application Submission

You may submit your application to us in either electronic or paper format.

To submit an application electronically, please use the http://www.Grants.gov/Apply site. If you use Grants.gov, you will be able to download a copy of the application package, complete it off-line, and then upload and submit the application via the Grants.gov site. ACF will not accept grant applications submitted via e-mail or fax.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

An original and two copies of the complete application are required. The original and each of the two copies must include all required forms, certifications, assurances, and appendices, be signed by an authorized representative, have original signatures on the original, and be submitted unbound.

Private non-profit organizations need to submit proof of their non-profit status as described above under “Eligibility Information” and are encouraged to submit with their applications the survey located under “Grant Related Documents and Forms” titled “Survey for Private, Non-Profit Grant Applicants” at http://www.acf.hhs.gov/programs/ofs/forms.htm.

The applicant should clearly indicate in its application(s) for which specific priority area it is applying. Applicants may submit different applications covering different priority areas or they may submit different applications for different projects under one priority area; however, they may not submit one application for the same project covering multiple priority areas. The length of the application, excluding the required application forms, certifications, and resumes, should be no more than 20 to 25 pages, double-spaced format preferred. A page is a single-side of an 8½″ x 11″ sheet of plain white paper. (Applicants are requested not to send pamphlets, maps, brochures or other printed material along with their application as these are difficult to photocopy. These materials, if submitted, will not be included in the review process.) The project description should include all the information requirements described in the specific evaluation criteria outlined in this program announcement under Part V.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1. Criteria, for instructions on preparing the full project description.

3. Submission Dates and Times

Due Date: Application is due May 3, 2005.

Explanation of Due Dates

The closing time and date for the receipt of applications is 4:30 p.m., eastern time, referenced above. Mailed or hand-delivered applications received after 4:30 p.m. on the closing date will be classified as late.

Deadline: Mailed applications shall be considered as meeting an announced deadline if they are received on or before the deadline time and date at the U.S. Department of Health and Human Services, Administration for Children and Families, Office of Grants Management, Division of Discretionary Grants, 370 L'Enfant Promenade, SW., Washington, DC 20447, between Monday and Friday (excluding Federal holidays). This address must appear on the envelope/package containing the application with the note “Attention: Sylvia M. Johnson.” Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late applications: Applications that do not meet the criteria above are considered late applications. ACF shall notify each late applicant that its application will not be considered in the current competition.

Any application received after 4:30 p.m., eastern time, on the deadline date will not be considered for competition.

Applicants using express/overnight mail services should allow two working days prior to the deadline date for receipt of applications. See Section IV.6. for more detailed information on submission requirements.

Extension of deadlines: ACF may extend application deadlines when circumstances such as acts of God (floods, hurricanes, etc.) occur, or when there are widespread disruptions of mail service, or in other rare cases. A determination to extend or waive deadline requirements rests with the Chief Grants Management Officer.

Checklist

You may use the checklist below as a guide when preparing your application package.

What to submit | Required content | Required form or format | When to submit
Table of Contents | As described in Section IV.2 | Consistent with guidance in “Content and Form of Application Submission” section of this announcement | By application due date.
Abstract of Proposed Project | As described in Section IV.2 | Consistent with guidance in “Content and Form of Application Submission” section of this announcement | By application due date.
Completed Standard Form 424 | As described in Section IV.2 | May be found on http://www.acf.hhs.gov/programs/ofs/forms.htm | By application due date.
Completed Standard Form 424A | As described in Section IV.2 | May be found on http://www.acf.hhs.gov/programs/ofs/forms.htm | By application due date.
Narrative Budget Justification | As described in Section IV.2. | Consistent with guidance in “Content and Form of Application Submission” section of this announcement | By application due date.
Project Narrative | As described in Section IV.2 | Consistent with guidance in “Content and Form of Application Submission” section of this announcement | By application due date.
Proof of Non-Profit Status | As described in Section III.1 | May be found in Section III. Eligibility Information | By time of award.
Certification regarding lobbying | As described in Section IV.2 | May be found on http://www.acf.hhs.gov/programs/ofs/forms.htm | By time of award.
Certification regarding environmental tobacco smoke | As described in Section IV.2 | May be found on http://www.acf.hhs.gov/programs/ofs/forms.htm | by time fo award.
Certification regarding non-construction programs | As described in Section IV.2 | May be found on http://www.acf.hhs.gov/programs/ofs/forms.htm | By time of award.

Additional Forms

Private non-profit organizations are encouraged to submit with their applications the survey located under “Grant Related Documents and Forms” titled “Survey for Private, Non-Profit Grant Applicants” at http://www.acf.hhs.gov/programs/ofs/forms.htm.

What to submit | Required content | Required form or format | When to submit
Survey for Private Nono-Profit Grant Applicants | Per required form | Maybe found on http://www.acf.hhs.gov/programs/ofs/forms.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade, SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions elected to participate in E.O. 12372 can be found on the following URL: http://www.whitehouse.gov/omb/grants/spoc.html.

5. Funding Restrictions

Construction is not an allowable activity or expenditure under this solicitation.

Grant awards will not allow reimbursement of pre-award costs.

Number of Projects in Application

Applicants may submit different applications covering different priority areas or they may submit different applications for different projects under one priority area; however, they may not submit one application for the same project covering multiple priority areas.

6. Other Submission Requirements

Submission by Mail: An applicant must provide an original application with all attachments signed by an authorized representative and two copies. The application must be received at the address below by 4:30 p.m., eastern time, on or before the closing date.

Administration for Children and Families, Office of Grants Management, Division of Discretionary Grants, 370 L'Enfant Promenade, SW., 4th Floor West, Washington, DC 20447. ATTN: Sylvia M. Johnson, SIP Application.

Hand Delivery: An applicant must provide an original application with all attachments signed by an authorized representative and two copies. The application must be received at the address below by 4:30 p.m., eastern time, on or before the closing date. Applications that are hand delivered will be accepted between the hours of 8 a.m. to 4:30 p.m., eastern time, Monday through Friday (excluding Federal holidays). Applications may be delivered to: ACF Mailroom, 2nd Floor (near loading dock), Aerospace Building, 901 D Street, SW., Washington, DC 20024.

Electronic Submission: http://www.Grants.gov. Please see section IV.2 Content and Form of Application Submission for guidelines and requirements when submitting applications electronically.

V. Application Review Information

The Paperwork Reduction Act of 1995 (Pub. L. 104-13)

Public reporting burden for this collection of information is estimated to average 15 hours per response, including the time for reviewing instructions, gathering and maintaining the data needed and reviewing the collection information.

The project description is approved under OMB control number 0970-0139 which expires 4/30/2007. An agency may not conduct or sponsor, and a person is not required to respond to, a collection of information unless it displays a currently valid OMB control number.

1. Criteria

The following are instructions and guidelines on how to prepare the “project summary/abstract” and “Full Project Description” sections of the application. Under the evaluation criteria section, note that each criterion is preceded by the generic evaluation requirement under the ACF Uniform Project Description (UPD).

Part 1 The Project Description Overview

Purpose. The project description provides a major means by which an application is evaluated and ranked to compete with other applications for available assistance. The project description should be concise and complete and should address the activity for which Federal funds are being requested. Supporting documents should be included where they can present information clearly and succinctly. In preparing your project description, all information requested through each specific evaluation criterion should be provided. Awarding offices use this and other information in making their funding recommendations. It is important, therefore, that this information be included in the application.

Part II General Instructions for Preparing a Full Project Description

Introduction. Applicants required to submit a full project description shall prepare the project description statement in accordance with the following instructions while being aware of the specified evaluation criteria. The text options give a broad overview of what your project description should include while the evaluation criteria identifies the measures that will be used to evaluate applications.

Project Summary Abstract. Provide a summary of the project description (a page or less) with reference to the funding request.

Objectives and Need for Assistance. Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach. Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. For example, increased use of an interstate child support enforcement remedy (such as income withholding, tax refund offset) is projected to have quarterly results of a 5% increase in income withholding collections and a 5% increase in automated enforcement collections. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project, along with a short description of the nature of their effort or contribution.

Evaluation. Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Additional Information. Following are requests for additional information that need to be included in the application:

Staff and Position Data. Provide a biographical sketch and job description for each key person appointed. Job descriptions for each vacant key position should be included as well. As new key staff is appointed, biographical sketches will also be required.

Budget and Budget Justification. Provide a budget with line item detail and detailed calculations for each budget object class identified on the Budget Information form. Detailed calculations must include estimation methods, quantities, unit costs, and other similar quantitative detail sufficient for the calculation to be duplicated. Also, include a breakout by the funding sources identified in Block 15 of the SF-424.

Provide a narrative budget justification that describes how the categorical costs are derived. Discuss the necessity, reasonableness, and allocability of the proposed costs.

General. Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: first column, object class categories; second column, Federal budget; next column(s), non-Federal budget(s), and last column, total budget. The budget justification should be a narrative.

Personnel. Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits. Description: Costs of employee fringe benefits unless treated as part of an approved indirect cost rate.

Justification: Provide a breakdown of the amounts and percentages that comprise fringe benefit costs such as health insurance, FICA, retirement insurance, taxes, etc.

Travel. Description: Costs of project-related travel by employees of the applicant organization (does not include consultant travel).

Justification: For each trip, show the total number of traveler(s), travel destination, duration of trip, per diem, mileage allowances, if privately owned vehicles will be used, and other transportation costs and subsistence allowances. Travel costs for key staff to attend ACF-sponsored workshops should be detailed in the budget.

Equipment. Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy, which includes the equipment definition.

Supplies. Description: Costs of all tangible personal property other than that included under the Equipment category.

Justification: Specify general categories of supplies and their costs. Show computations and provide other information, which supports the amount requested.

Contractual. Description: Costs of all contracts for services and goods except for those that belong under other categories such as equipment, supplies, construction, etc. Include third-party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc.

Note: Whenever the applicant intends to delegate part of the project to another agency, the applicant must provide a detailed budget and budget narrative for each delegate agency, by agency title, along with the same supporting information referred to in these instructions.

Other. Description: Costs of all contracts for services and goods except for those that belong under other categories such as equipment, supplies, construction, etc. Include third-party evaluation contracts (if applicable) and contracts with secondary recipient organizations, including delegate agencies and specific project(s) or businesses to be financed by the applicant.

Justification: Provide computations, a narrative description and a justification for each cost under this category.

Total Direct Charges, Total Indirect Charges, Total Project Costs. (Self-explanatory.)

Evaluation Criteria: The following evaluation criteria appear in weighted descending order. The corresponding score values indicate the relative importance that ACF places on each evaluation criterion.

In considering how applicants will carry out the responsibilities addressed under this announcement, competing applications for financial assistance will be reviewed and evaluated against the following criteria:

Objectives and Need for Assistance 30 Points

The application should demonstrate a thorough understanding and analysis of the problem(s) being addressed in the project, the need for assistance, and the importance of addressing these problems in improving the effectiveness of the child support program. The applicant should describe how the project will address this problem(s) through implementation of changes, enhancements, and innovative efforts and specifically, how this project will improve program results. The applicant should address one or more of the strategies or approaches described under the specific priority area they are applying for (refer to Part I. Priority Areas). The applicant should identify the key goals and objectives of the project; describe the conceptual framework of its approach to resolve the identified problem(s); and provide a rationale for taking this approach as opposed to others.

Approach 30 Points

A well thought-out and practical management and staffing plan is mandatory. The application should include a detailed management plan that includes timelines and detailed budgetary information. The main concern in this criterion is that the applicant should demonstrate a clear idea of the project's goals, objectives, and tasks to be accomplished. The plan to accomplish the goals and tasks should be set forth in a logical framework. The plan should identify what tasks are required of any contractors and specify their relevant qualifications to perform these tasks. Staff to be committed to the project (including supervisory and management staff) at the state and/or local levels must be identified by their role in the project along with their qualifications and areas of particular expertise. In addition, for any technical expertise obtained through a contract or subgrant, the desired technical expertise and skills of proposed positions should be specified in detail. The applicant should demonstrate that persons with the skills needed to operate the project are on board or can be obtained within a reasonable time.

Evaluation 25 Points

The application should describe how the success of this project can be measured and how the success of this project has broader application in contributing to child support enforcement policies, practices, and/or providing solutions that could be adapted by other states/jurisdictions. The application should describe the specific results/products that will be achieved; as appropriate, identify the kinds of data to be collected and maintained; describe procedures for informed consent of participants, where applicable, and discuss the criteria to be used to evaluate the results of the project. The application should describe the evaluation methodology to be used to determine if the process proposed was implemented and if the project goals/objectives were achieved. Sound evaluations to determine whether or not project goals have been realized are of importance to child support enforcement policy makers and administrators. Thus, the proposal should include a process evaluation component and comparison of before/and after the project site(s)' experience, as appropriate, to demonstrate the results achieved.

Budget and Budget Justification 10 Points

The project costs need to be reasonable in relation to the identified tasks, including the evaluation component. A detailed budget (e.g., the staff required, equipment and facilities that would be leased or purchased) should be provided identifying all agency and other resources (i.e., state, community, or other programs such as TANF or Head Start) that will be committed to the project. Consultant or contractor personnel costs should also be delineated. Although the general rule stated above under the heading TRAVEL suggests otherwise, applicants should NOT include funds for trips to conferences or to OCSE's Central Office in Washington, DC. If OCSE requests such visits, it will reimburse the grantee for them. Grant funds cannot be used for capital improvements or the purchase of land or buildings. Explain why this project's resource requirements cannot be met by the state/local agency's regular program operating budget.

Preferences 5 Points

Preference will be given to those grant applicants representing IV-D agencies and applicant organizations who have documented IV-D agency commitment to the project, either through a cooperative agreement or letter of commitment, which needs to be signed and attached to the application.

2. Review and Selection Process

Each application submitted under this program announcement will undergo a pre-review to determine that (1) the application was received by the closing date and submitted in accordance with the instructions in this announcement and (2) the applicant is eligible for funding. It is necessary that applicants state specifically which priority area they are applying for.

Applications will be screened for priority area appropriateness. If applications do not clearly select a priority area, or if an application for a single project covers multiple priority areas (see Section IV.2. Content and Form of Application Submission), applicants will be contacted by staff to provide verbal approval of priority area selection.

Applications that pass the initial ACF screening will be evaluated and rated by an independent review panel on the basis of specific evaluation criteria. The results of these reviews will assist the Commissioner and OCSE program staff in considering competing applications. Reviewers' scores will weigh heavily in funding decisions but will not be the only factors considered. Applications generally will be considered in order of the average scores assigned by reviewers. However, highly ranked applications are not guaranteed funding because other factors are taken into consideration. These include, but are not limited to, the number of similar types of existing grants or projects funded with OCSE funds in the last five years; comments of reviewers and government officials; staff evaluation and input; geographic distribution; previous program performance of applicants; compliance with grant terms under previous DHHS grants; audit reports; investigative reports; an applicant's progress in resolving any final audit disallowance on previous OCSE or other Federal agency grants. OCSE will consider the geographic distribution of funds among States and the relative proportion of funding among rural and urban areas. The evaluation criteria were designed to assess the quality of a proposed project, and to determine the likelihood of its success. The evaluation criteria are closely related and are considered as a whole in judging the overall quality of an application. Points are awarded only to applications that are responsive to the evaluation criteria within the context of this program announcement.

Federal reviewers will be used for the review process; however, we may also use consultants. Since ACF will be using non-Federal reviewers in the review process, applicants have the option of omitting from the application copies (not the original) specific salary rates or amounts for individuals specified in the application budget.

Approved but Unfunded Applications

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competition.

3. Anticipated Announcement and Award Dates

The anticipated start date for the new awards is August 1, 2005. Projects under Priority 1 may run through December 31, 2006, for a period of up to 17 months; projects under Priorities 2, 4 and 5 may run through July 31, 2007, for a period of up to 24 months; and projects under Priority 3 may run through July 31, 2008, for a period of up to 36 months.

VI. Award Administration Information

1. Award Notices

The successful applicants will be notified through the issuance of a Financial Assistance Award document which sets forth the amount of funds granted, the terms and conditions of the grant, the budget period for which initial support will be given, the non-Federal share to be provided, and the total project period for which support is contemplated. The Financial assistance Award will be signed by the Grants Officer and transmitted via postal mail.

Organizations whose applications will not be funded will be notified in writing.

2. Administrative and National Policy Requirements

Grantees are subject to the requirements in 45 CFR part 74 (non-governmental) or 45 CFR part 92 (governmental).

3. Reporting Requirements

All grantees are required to submit quarterly program reports; grantees are also required to submit quarterly expenditure reports using the required financial standard form (SF-269) which can be found at the following URL: http://www.acf.hhs.gov/programs/ofs/forms.htm Final reports are due 90 days after the end of the grant period. A suggested format for the program report will be sent to all grantees after the awards are made.

VII. Agency Contacts

Program Office Contact

For questions regarding application development, forms, or program concerns regarding the announcement contact: Susan Greenblatt, Deputy Director, Administration for Children and Families, Office of Child Support Enforcement (OCSE), Division of State, Tribal and Local Assistance, 370 L'Enfant Promenade, SW., 4th Floor, East Wing, Washington, DC 20447. Phone: 202-401-4849. E-mail: sgreenblatt@acf.hhs.gov.

Grants Management Office Contact

Sylvia M. Johnson, Office of Grants Management, Division of Discretionary Grants, 370 L'Enfant Promenade, SW., Suite 500 West, Aerospace Building, Washington, DC 20447. Phone: 202-401-4524. E-mail: SYJohnson@acf.hhs.gov.

VIII. Other Information

ACF will not send applicants an acknowledgement of receipt for applications received during the application period.

Additional information about this program and its purpose can be located on the following Web site: URL: www.acf.hhs.gov/programs/cse/.

Dated: February 11, 2005.
David H. Siegel,
Acting Commissioner, Office of Child Support Enforcement.

[FR Doc. 05-3090 Filed 2-16-05; 8:45 am]

BILLING CODE 4184-01-P